ENVIRONMENTAL PROTECTION AGENCY

[FRL-8779-5]

Public Water System Supervision Program Revision for the State of Arkansas

AGENCY: United States Environmental Protection Agency (EPA).

ACTION: Notice of proposed approval.

SUMMARY: Notice is hereby given that the State of Arkansas is revising its approved Public Water System Supervision Program adopting regulations for the Ground Water Rule (GWR), promulgated by EPA on November 26, 2006. The GWR will provide for increased protection against microbial pathogens in public water systems that use ground water sources. EPA has determined that the proposed GWR revisions are no less stringent than the corresponding Federal regulations. Therefore, EPA proposes to approve these program revisions.

DATES: All interested parties may request a public hearing. A request for a public hearing must be submitted by April 17, 2009 to the Regional Administrator at the EPA Region 6 address shown below. Requests for a hearing may be denied by the Regional Administrator. However, if a substantial request for a public hearing is made by April 17, 2009, a public hearing will be held. If no timely and appropriate request for a hearing is received and the Regional Administrator does not elect to hold a hearing on his own motion, this determination shall become final and effective on April 17, 2009. Any request for a public hearing shall include the following information: the name, address, and telephone number of the individual, organization, or other entity requesting a hearing; a brief statement of the requesting person's interest in the Regional Administrator's determination and a brief statement of the information that the requesting person intends to submit at such hearing; and the signature of the individual making the request or, if the request is made on behalf of an organization or other entity, the signature of a responsible official of the organization or other entity.

ADDRESSES: All documents relating to this determination are available for inspection between the hours of 8 a.m. and 4:30 p.m., Monday through Friday, at the following offices: Arkansas Department of Health, Division of Engineering, 4815 West Markham, Little Rock, Arkansas 72205; and the EPA Region 6, Drinking Water Section (6WQ-SD), 1445 Ross Avenue, Suite 1200, Dallas, Texas 75202.

FOR FURTHER INFORMATION CONTACT: Amy Camacho, EPA Region 6, Drinking Water Section at the Dallas address given above or at telephone (214) 665-7175, or camacho.amy@epa.gov.

Authority: Section 1413 of the Safe Drinking Water Act, as amended (1996), 40 CFR parts 141 and 142 of the National Primary Drinking Water Regulations.

Dated: February 27, 2009.
Lawrence E. Starfield,
Acting Regional Administrator, Region 6.

[FR Doc. E9-5841 Filed 3-17-09; 8:45 am]

BILLING CODE 6560-50-P